DEPARTMENT OF THE INTERIOR

Fish and Wildlife Service

Notice of Intent to Prepare a Comprehensive Conservation Plan and Associated Environmental Impact Statement for the Desert National Wildlife Refuge Complex

AGENCY: Fish and Wildlife Service, Interior.

ACTION: Notice of intent to prepare a Comprehensive Conservation Plan and Associated Environmental Impact Statement for the Desert National Wildlife Refuge Complex.

SUMMARY: This notice advises the public that the U.S. Fish and Wildlife Service (Service) intends to gather information necessary to prepare a Comprehensive Conservation Plan (CCP) and an associated Environmental Impact Statement (EIS) for the Desert National Wildlife Refuge Complex. The Desert National Wildlife Refuge Complex is composed of Ash Meadows National Wildlife Refuge, Desert National Wildlife Range, Moapa Valley National Wildlife Refuge and Pahranagat National Wildlife Refuge located in Clark, Lincoln and Nye Counties, Nevada. A Wilderness Review of Desert National Wildlife Range will also be completed concurrently in accordance with the Wilderness Act of 1964, as amended, and Refuge Planning Policy 602 FW Chapters 1, 2, and 3. The Service is furnishing this notice in compliance with our National Wildlife Refuge Planning Policy and the National Environmental Policy Act of 1969, as amended (NEPA), and implementing regulations, to advise other agencies, Tribal Governments, and the public of our intentions, and to obtain suggestions and information on the scope of issues and alternatives to include in the CCP and the environmental document.

DATES: A series of public scoping meetings will be held on September 16 through September 19 at the following locations:

Date | Time | Location
Sept. 16, 2002 | 7-9 pm | Moapa Community Center, Moapa Valley, NV.
Sept. 17, 2002 | 7-9 pm | Fish and Wildlife Service Office, Las Vegas, NV.
Sept. 18, 2002 | 4-6 pm | Amargosa Valley Multi-purpose Building, Amargosa Valley, NV.
Sept. 18, 2002 | 7-9 pm | Bob Ruud Community Center, Pahrump, NV.
Sept. 19, 2002 | 7-9 pm | Alamo Annex Building, Alamo, NV.

Interested persons are encouraged to attend these meetings to identify issues, concerns, and opportunities to be addressed in the CCP. For directions to the meetings, please contact us at the phone number listed below. To ensure that the Service has adequate time to evaluate and incorporate suggestions and other input into the planning process, comments should be received within 60 days from the date of this notice.

ADDRESSES: Address comments and requests to be put on the mailing list, receive more information, or receive a copy of the most recent planning update to: Project Leader, U.S. Fish and Wildlife Service, 4701 North Torrey Pines, Las Vegas, NV 89130 or call the Complex at (702) 515-5450. Submit faxes to (702) 515-5460. If you choose to submit comments via electronic mail, visit http://desertcomplex.fws.gov and use the “Guest Mailbox” provided at that site. More information on the CCP process is also available at the above internet site by selecting the “CCP Planning Update” link.

FOR FURTHER INFORMATION CONTACT: Richard Birger, Project Leader, at the address and phone number above.

SUPPLEMENTARY INFORMATION:

Ash Meadows National Wildlife Refuge

Established in 1984 under the authority of the Endangered Species Act of 1973, as amended, the Refuge comprises 23,000 acres of spring fed wetlands, mesquite bosques, and desert uplands that provide habitat for at least 24 plants and animal species found nowhere else in the world. The primary purpose of the Refuge is to provide for the protection and recovery of endangered fish and plants, such as Devil's Hole, Ash Meadows Amargosa, and Warm Springs pupfish, Ash Meadows speckled dace, Ash Meadows milk-vetch, spring-loving centaury plant, Ash Meadows sunray, Ash Meadows ivesia, Ash Meadows gumplant, and Ash Meadows blazing star. The Amargosa Pupfish Station, located within the Refuge, is home to a vertebrate species that may have one of the most restricted habitats on the planet. The most striking feature of the Refuge is the more than 30 spring-fed pools and streams that contrast sharply with the arid desert that surround them.

Desert National Wildlife Range

The Refuge, established in 1936 by Executive Order No. 7373 for the protection, preservation and management of desert bighorn sheep, as well as other forms of native flora and fauna occurring on the Refuge, encompasses 1.5 million acres of the diverse Mojave Desert in southern Nevada. It is the largest National Wildlife Refuge in the lower 48 states.

The Military Lands Withdrawal Act of 1999, Pub. L. No. 106-65, authorized the withdrawal of 2,919,890 acres of public lands in Clark, Nye, and Lincoln Counties, Nevada from all forms of appropriation under the public lands laws (including the mining laws and the mineral leasing and the geothermal leasing laws). These withdrawn lands were reserved for use by the Secretary of the Air Force for military testing, training and other defense-related purposes. During the period of withdrawal, the Act provides that the lands within the Desert National Wildlife Range will be managed by the Secretary of the Interior pursuant to the National Wildlife Refuge System Administration Act of 1966 (16 U.S.C. 668dd, et seq.) and other laws applicable to the National Wildlife Refuge System. Pursuant to a Memorandum of Understanding with the Secretary of the Air Force, The Secretary of the Interior is to manage withdrawn lands for the purposes for which the Refuge was established and to support current and future military aviation training.

Moapa Valley National Wildlife Refuge

The Refuge was established September 10, 1979, under the authority of the Endangered Species Act of 1969, as amended, to secure habitat for the endangered Moapa dace. The Refuge is located on 106 acres in northeastern Clark County. Due to its small size, fragile habitats, on-going habitat restoration work, and unsafe structures, the Refuge is currently closed to the general public.

Pahranagat National Wildlife Refuge

The Refuge was established in 1963, under the authority of the Migratory Bird Conservation Act, as amended, to provide protection and habitat for migrating birds in the Pahranagat Valley. The 5,382 acre refuge consists of marshes, meadows, lakes, and upland desert habitat. It provides nesting, resting, and feeding areas for ducks, geese, swans, and other birds.

Background and Planning Process

The National Wildlife Refuge System Administration Act of 1966, as amended, requires the Service to manage all lands within the National Wildlife Refuge System in accordance with an approved CCP (16 U.S.C. 668dd(e)). The CCP will guide wildlife, habitat, and public use management decisions and identify refuge goals, long-range objectives, and strategies for achieving Refuge purposes. Public input into this planning process is encouraged. The CCP will provide other agencies and the public with a clear understanding of the desired conditions for the Refuges and how the Service will implement management strategies over the next 15 years. Until the CCP is completed, Refuge management will continue to be guided by refuge purposes, federal legislation regarding management of national wildlife refuges, and other legal, regulatory and policy guidance.

Comments and concerns received will be used to develop goals, key issues and management strategies, and draft alternatives. Additional opportunities for public participation will occur throughout the CCP process, which is expected to be completed by 2005. Input from interested federal, state, and local agencies, Native American tribes, organizations and individuals is encouraged.

During development of the CCP, we will comply with the provisions of NEPA through concurrent preparation of an EIS that will accompany the CCP. The draft EIS will contain a No Action Alternative, a proposed action alternative, and potentially other alternatives. The alternatives will be used to define management options and compare their effects. The potential environmental impacts of each alternative will be analyzed in the draft EIS. A range of alternatives (and their effects on the biological resources and on the local communities) that address the issues and the management strategies associated with the issues will be evaluated in the EIS.

We are required by Service policy to complete a wilderness review of Service managed lands to determine if any lands are suitable for inclusion in the National Wilderness Preservation System. The wilderness review will be integrated into the CCP/EIS process including identification of areas that meet the minimum wilderness criteria; evaluation of the wilderness suitability of alternatives; and documentation of recommendations. Wilderness designation requires Congressional legislation. The last step, if appropriate, would consist of forwarding any suitable recommendations from the Director of the Service, through the Secretary of the Interior and the President, to Congress in a Wilderness Study Report.

Conclusion

With the publication of this notice, the public is encouraged to help identify potential issues, management actions and concerns; significant problems or impacts; and opportunities to resolve them. The public scoping period will continue for 60 days from the date of this notice. However, the Service will accept comments throughout the planning process.

All comments received from individuals on environmental impact statements become part of the official public record. Requests for such comments will be handled in accordance with the Freedom of Information Act, the Council on Environmental Quality's NEPA regulations [40CFR1506.6(f)] and other Service and Departmental policy and procedures.

The environmental review of this project will be conducted in accordance with the requirements of the National Environmental Policy Act of 1969 (NEPA), as amended (42 U.S.C. 4321 et seq.), NEPA Regulations (40 CFR 1500-1508), other appropriate Federal laws and regulations, Executive Order 12996, and Service policies and procedures for compliance with those regulations.

Dated: August 7, 2002.
Ken McDermond,
Acting Manager, California/Nevada Operations Office, Sacramento, California.

[FR Doc. 02-20699 Filed 8-20-02; 8:45 am]

BILLING CODE 4310-55-P